SURFACE TRANSPORTATION BOARD

[Docket No. FD 36442]

Oregon Independence Railroad, LLC—Operation Exemption—in Polk County, Or.

Oregon Independence Railroad, LLC (OIRR), a noncarrier, has filed a verified notice of exemption under 49 CFR 1150.31 to restore common carrier operations over approximately 0.4267 miles of private rail trackage, extending from milepost 0.1833, at a point of connection with Portland & Western Railroad, Inc., to milepost 0.61 (the center-line of the Polk Street grade crossing), in Independence, Polk County, Or. (the Line).

OIRR states that the Line was abandoned by the Willamette Valley Railroad Company ¹ but the track was left in place. OIRR states that, since its abandonment, the Line has been used as private track and has undergone various ownership changes, with Valley & Siletz Railroad, LLC (VSRL), a noncarrier, being the Line's most recent owner. OIRR states that it acquired control of VSRL as of September 11, 2020, and VSRL transferred its assets, including the Line, to OIRR on September 18, 2020. OIRR further states that on the effective date of the exemption, it intends to commence common carrier operations over the Line.

¹ See Willamette Valley R.R.—Aban. Exemption—in Polk Cnty., Or., AB 403X (STB served Apr. 5, 1996) (authorizing entire system abandonment of 1.8 miles of rail line).

OIRR certifies that its projected annual revenues as a result of this transaction will not exceed $5 million or the threshold required to qualify as a Class III carrier. OIRR also certifies that the transaction is not subject to any limitation on OIRR's ability to interchange traffic with a third-party connecting carrier.

The transaction may be consummated on or after October 21, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than October 14, 2020 (at least seven days before the exemption becomes effective).

All pleadings, referring to Docket No. FD 36442, must be filed with the Surface Transportation Board either via e-filing or in writing addressed to 395 E Street SW, Washington, DC 20423-0001. In addition, a copy of each pleading must be served on OIRR's representative, Robert A. Wimbish, Fletcher & Sippel LLC, 29 North Wacker Drive, Suite 800, Chicago, IL 60606-3208.

According to OIRR, this action is categorically excluded from environmental review under 49 CFR 1105.6(c) and from historic reporting requirements under 49 CFR 1105.8(b).

Board decisions and notices are available at www.stb.gov.

Decided: October 1, 2020.
By the Board, Allison C. Davis, Director, Office of Proceedings.
Jeffrey Herzig,
Clearance Clerk.

[FR Doc. 2020-22201 Filed 10-6-20; 8:45 am]

BILLING CODE 4915-01-P